DEPARTMENT OF HOMELAND SECURITY

Federal Emergency Management Agency

44 CFR Chapter I

[Docket ID FEMA-2016-0022]

Revisions to the Public Assistance Program and Policy Guide

AGENCY: Federal Emergency Management Agency, DHS.

ACTION: Notification of availability.

SUMMARY: This document provides notice of the availability of the final policy Public Assistance Program and Policy Guide (PAPPG).

DATES: FEMA applies the revisions in this policy to incidents declared on or after August 23, 2017, or to any application for assistance that, as of January 1, 2018 is pending before FEMA, or to any application for assistance that has been denied, where a challenge to that denial is not yet finally resolved as of January 1, 2018.

ADDRESSES: This final policy is available online at http://www.regulations.gov and on FEMA's website at http://www.fema.gov. The final policy and supporting documents are available at http://www.regulations.gov under docket ID FEMA-2016-0022. You may also view a hard copy of the final policy at the Office of Chief Counsel, Federal Emergency Management Agency, 8NE, 500 C Street SW, Washington, DC 20472.

FOR FURTHER INFORMATION CONTACT: Christopher Logan, Division Director, Public Assistance, 202-786-0816.

SUPPLEMENTARY INFORMATION: This document announces the availability of the Third Edition of the Public Assistance Program and Policy Guide (PAPPG). The Third Edition revises a statutory and regulatory interpretation related to the eligibility of certain private nonprofit facilities for Public Assistance (PA) under 42 U.S.C. 5172, 42 U.S.C. 5122(11), and 44 CFR 206.221. Specifically, Third Edition clarifies that private nonprofit houses of worship will not be singled out for disfavored treatment within the “community centers” subcategory of PA nonprofit applicants. Further discussion regarding these revisions is contained in the Foreword to the PAPPG.

This final policy does not have the force or effect of law.

Authority: 42 U.S.C. 5121 et seq.

Dated: January 2, 2018.
Brock Long,
Administrator, Federal Emergency Management Agency.

[FR Doc. 2018-00044 Filed 1-2-18; 4:45 pm]

BILLING CODE 9111-23-P